FEDERAL COMMUNICATIONS COMMISSION

[OMB 3060-0991]

Information Collection Being Submitted for Review and Approval to the Office of Management and Budget

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The Commission may not conduct or sponsor a collection of information unless it displays a currently valid Office of Management and Budget (OMB) control number. No person shall be subject to any penalty for failing to comply with a collection of information subject to the PRA that does not display a valid OMB control number.

DATES: Written comments should be submitted on or before February 12, 2018. If you anticipate that you will be submitting comments, but find it difficult to do so within the period of time allowed by this notice, you should advise the contacts listed below as soon as possible.

ADDRESSES: Direct all PRA comments to Nicholas A. Fraser, OMB, via email Nicholas_A._Fraser@omb.eop.gov; and to Cathy Williams, FCC, via email PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-0991.

Title: AM Measurement Data.

Form Number: N/A.

Type of Review: Revision of a currently approved collection.

Respondents: Business or other for-profit entities.

Number of Respondents and Responses: 1,800 respondents; 3,135 responses.

Estimated Hours per Response: 0.50-25 hours.

Frequency of Response: Recordkeeping requirement, Third party disclosure requirement, On occasion reporting requirement.

Total Annual Burden: 20,200 hours.

Total Annual Cost: $1,131,500.

Obligation to Respond: Required to obtain or retain benefits. The statutory authority for this collection of information is contained in Sections 151, 152, 154(i), 303, and 307 of the Communications Act of 1934, as amended.

Nature and Extent of Confidentiality: There is no need for confidentiality treatment with this collection of information.

Privacy Impact Assessment: No impact(s).

Needs and Uses: The Commission is revising this information collection to reflect the September 22, 2017, adoption of the Third Report and Order in MB Docket No. 13-249, FCC 17-119, In the Matter of Revitalization of AM Radio Service (AMR Third R&O). Specifically, the AMR Third R&O removed certain requirements and associated burdens contained in 47 CFR 73.151, 73.154, and 73.155. To the extent the revisions affect reporting or record-keeping requirements, they reduce those burdens for AM broadcasters operating with directional antenna arrays. The Commission is seeking approval for the revised information collection requirements contained under this collection from the Office of Management and Budget (OMB).

In the 2015 AM revitalization proceeding, the FCC proposed streamlining certain technical requirements to assist AM broadcasters in providing radio service to consumers. For example, many AM stations must directionalize their signals during some or all of the broadcast day in order to avoid interference with other AM stations. Maintaining a directional signal pattern can be technically complex, time-consuming, and expensive. Such stations are subject to a variety of rules requiring signal strength measurements and other engineering analyses to ensure compliance with their authorizations.

In the AMR Third R&O, the FCC eliminated, clarified, or eased several of the rules governing AM stations using directional antenna arrays, which comprise almost 40 percent of all AM stations. First, the FCC revises 47 CFR 73.154(a) to relax the rule on submission of partial proofs of performance of directional AM antenna arrays by eliminating the requirement to take measurements on non-monitored radials adjacent to monitored radials. Next, the FCC modified several rules pertaining to AM stations that use Method of Moments (MoM) models of directional array performance. MoM modeling allows broadcasters to verify antenna system performance through computer modeling, as opposed to sending engineers in the field to take field strength measurements. Thus, a proof using a MoM model is less expensive than taking field strength measurements of an AM station's directional pattern. Specifically, the FCC: (1) Revised 47 CFR 73.151(c)(1)(ix) to eliminate the requirement of obtaining a registered surveyor's certification, provided that no new towers are being added to an existing AM array; (2) added 47 CFR 73.151(c)(1)(x) to extend the exemption (of having to file a new proof with the FCC) to any AM tower modification that does not affect the modeled values used in the previously submitted license proof; (3) revised 47 CFR 73.151(c)(3) to retain the current requirement for submission of reference field strength measurements in the initial license application, but eliminated the requirement to submit additional reference field strength measurements in subsequent license applications; and (4) revised 47 CFR 73.155 to eliminate the requirement for biennial recertification of the performance of a directional pattern licensed pursuant to a MoM proof, except when system components have been repaired or replaced.

Federal Communications Commission.
Katura Jackson,
Federal Register Liaison Officer, Office of the Secretary.

[FR Doc. 2018-00455 Filed 1-11-18; 8:45 am]

BILLING CODE 6712-01-P